DEPARTMENT OF THE INTERIOR

Geological Survey

National Satellite Land Remote Sensing Data Archive Advisory Committee; Committee Meeting

AGENCY: Geological Survey.

ACTION: Notice of meeting.

SUMMARY: Pursuant to Public Law 92-463, the National Satellite Land Remote Sensing Data Archive (NSLRSDA) Advisory Committee will meet at the U.S. Geological Survey (USGS) Earth Resources Observation Systems (EROS) Data Center (EDC) near Sioux Falls, South Dakota. The Committee, comprised of 15 members from academia, industry, government, information science, natural science, social science, and policy/law will provide the USGS EDC management with advice and consultation of defining and accomplishing the NSLRSDA's archiving and access goals to carry out the requirements of the Land Remote Sensing Policy Act; on priorities of the NSLRSDA's tasks; and, on issues of archiving, data management, science, policy, and public-private partnerships.

Topics to be reviewed and discussed by the Committee include determining the content of and upgrading the basic data set as identified by the Congress; metadata content and accessibility; product characteristics, availability, and delivery; and archiving, data access, and distribution policies.

DATES: May 1, 2002 commencing at 9 a.m. and adjourning at 12 noon on May 3, 2002.

FOR FURTHER INFORMATION CONTACT: Mr. John Faundeen, Archivist, U.S. Geological Survey, EROS Data Center, Sioux Falls, South Dakota, 57198 at (605) 594-6142 or email at faundeen@usgs.gov

SUPPLEMENTARY INFORMATION: Meetings of the National Satellite Land Remote Sensing Data Archive Advisory Committee are open to the public. Previous Committee meetings minutes are available for public review at http://edc.usgs.gov/programs/nslrsda/advcomm.html

Dated: March 28, 2002.
Barbara J. Ryan,
Associate Director for Geography.

[FR Doc. 02-8568 Filed 4-9-02; 8:45 am]

BILLING CODE 4310-Y7-M